DEPARTMENT OF HOMELAND SECURITY

Coast Guard

33 CFR Part 117

[CGD08-06-018]

RIN 1625-AA09

Drawbridge Operation Regulations; Upper Mississippi River, Iowa and Illinois

AGENCY: Coast Guard, DHS.

ACTION: Notice of temporary deviation from regulations.

SUMMARY: The Commander, Eighth Coast Guard District has issued a temporary deviation from the regulation governing the operations of the Rock Island Railroad and Highway Drawbridge, Mile 482.9, Rock Island, Illinois across the Upper Mississippi River. This deviation allows the bridge to remain closed to navigation from 8 a.m. until 11 a.m. on September 24, 2006. The deviation is necessary to allow time for repairs to mechanical components essential to the continued safe operation of the drawbridge.

DATES: This temporary deviation is effective from 8 a.m. until 11 a.m. on September 24, 2006.

ADDRESSES: Materials referred to in this document are available for inspection or copying at Room 2.107F in the Robert A. Young Federal Building, 1222 Spruce Street, St. Louis, MO 63103-2832, between 8 a.m. and 4 p.m., Monday through Friday, except Federal holidays. The Eighth Coast Guard District Bridge Administration Branch maintains the public docket for this temporary deviation.

FOR FUTHER INFORMATION CONTACT: Roger K. Wiebusch, Bridge Administrator, (314) 539-3900, extension 2378.

SUPPLEMENTARY INFORMATION: The Rock Island Arsenal requested a temporary deviation to allow time to conduct repairs to the Rock Island Railroad and Highway Drawbridge, mile 482.9, at Rock Island, Illinois across the Upper Mississippi River. The Rock Island Railroad and Highway Drawbridge currently operates in accordance with 33 CFR 117.5 which requires the drawbridge to open promptly and fully for passage of vessels when a request to open is given in accordance with 33 CFR part 117, subpart A. In order to facilitate required bridge maintenance, the bridge must be kept in the closed-to-navigation position. This deviation allows the drawbridge to remain closed to navigation for three hours from 8 a.m. until 11 a.m. on September 24, 2006. There are no alternate routes for vessels transiting this section of the Upper Mississippi River.

The Rock Island Railroad and Highway Drawbridge, in the closed-to-navigation position, provides a vertical clearance of 23.8 feet above normal pool. Navigation on the waterway consists primarily of commercial tows and recreational watercraft. This deviation has been coordinated with waterway users. No objections were received.

In accordance with 33 CFR 117.35(c), this work will be performed with all due speed in order to return the bridge to normal operation as soon as possible. This deviation from the operating regulations is authorized under 33 CFR 117.35.

Dated: April 28, 2006.
Roger K. Wiebusch,
Bridge Administrator.

[FR Doc. 06-4323 Filed 5-8-06; 8:45 am]

BILLING CODE 4910-15-P